DEPARTMENT OF VETERANS AFFAIRS

[OMB Control No. 2900-0678]

Agency Information Collection Activity: On-The-Job Training Agreement

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

DATES: Written comments and recommendations on the proposed collection of information should be received on or before May 7, 2024.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-0678” in any correspondence. During the comment period, comments may be viewed online through FDMS.

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-0678” in any correspondence.

SUPPLEMENTARY INFORMATION: Under the PRA of 1995, Federal agencies must obtain approval from the Office of Management and Budget (OMB) for each collection of information they conduct or sponsor. This request for comment is being made pursuant to section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: 38 U.S.C. 501(a), 38 U.S.C. 3104(a)(7), 38 U.S.C. 3116, and 38 CFR 21.212.

Title: On The Job Training Agreement.

OMB Control Number: 2900-0678.

Type of Review: Revision of a currently approved collection.

Abstract: VA Form 28-1904, On The Job Training Agreement (chapter 31, title 38 United States Code) serves as a written agreement between an On-The-Job Training (OJT) establishment and the Department of Veterans Affairs. This agreement outlines that the OJT establishment will provide competent instruction, close supervision, maintain progress reports while the Department of Veterans Affairs will furnish tools, supplies and equipment and provide supervision to the Veterans with service-connected disabilities. This agreement is necessary to ensure that the responsibilities of both parties are specified and communicated clearly. VA needs this information collection in order to assure that Veterans in these types of programs are receiving appropriate training and VA can authorize payment of tools, supplies and subsistence allowance as appropriate. This form is used to ensure understanding of the required responsibilities by both parties.

Affected Public: Individuals and households.

Estimated Annual Burden: 89 hours.

Estimated Average Burden per Respondent: 15 minutes.

Frequency of Response: One time.

Estimated Number of Respondents: 354 per year.

By direction of the Secretary.
Maribel Aponte,
VA PRA Clearance Officer, Office of Enterprise and Integration/Data Governance Analytics, Department of Veterans Affairs.

[FR Doc. 2024-04948 Filed 3-7-24; 8:45 am]

BILLING CODE 8320-01-P